DEPARTMENT OF COMMERCE

National Oceanic and Atmospheric Administration

RIN 0648-XF530

[Marine Mammals; File No. 21006]

Receipt of Application

AGENCY: National Marine Fisheries Service (NMFS), National Oceanic and Atmospheric Administration (NOAA), Commerce.

ACTION: Notice; receipt of application.

SUMMARY: Notice is hereby given that Linnea Pearson, California Polytechnic State University, 1 Grand Ave, San Luis Obispo, CA 93407, has applied in due form for a permit to conduct research on Weddell seals (Leptonychotes weddellii).

DATES: Written, telefaxed, or email comments must be received on or before August 14, 2017.

ADDRESSES: The application and related documents are available for review by selecting “Records Open for Public Comment” from the “Features” box on the Applications and Permits for Protected Species (APPS) home page, https://apps.nmfs.noaa.gov, and then selecting File No. 21006 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Sara Young or Amy Sloan, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant proposes to study the thermoregulatory strategies (insulation, thermogenic mechanisms) by which Weddell seal pups maintain euthermia in air and in water and examine the development of diving capability (oxygen stores) as the animals prepare for independent foraging. This study will take place near McMurdo Station in Antarctica. In each field season (two field seasons total), ten pups (20 total) will be handled at four time points between one week and eight weeks of age. Protocols not requiring sedation (mass, morphometrics, core and surface temperatures, metabolic rates) as well as protocols requiring anesthesia (body composition, biopsies, and blood volume analysis) will be conducted on five individuals at all four time points under manual restraint. Metabolic and morphometric measurements will be conducted on a separate cohort of five pups at each of the four time points. The applicant is also proposing to take up to 350 animals for flipper tag reading, thermal imaging, and incidental harassment due to work with conspecifics. Take of seven Weddell seal pups, 15 Weddell seal adult females, and 20 crabeater seals is also requested due to harassment from capturing the Weddell seal pups. Up to two pup mortalities are requested annually, not to exceed three over the two field seasons. The permit would be valid for two years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: July 10, 2017.
Donna S. Wieting,
Director, Office of Protected Resources, National Marine Fisheries Service.

[FR Doc. 2017-14714 Filed 7-12-17; 8:45 am]

BILLING CODE 3510-22-P